DEPARTMENT OF ENERGY

Federal Energy Regulatory Commission

Combined Notice of Filings

Take notice that the Commission has received the following Natural Gas Pipeline Rate and Refund Report filings:

Filings Instituting Proceedings

Docket Numbers: RP22-1224-000.

Applicants: MP Gulf of Mexico, LLC, Deepwater Abandonment Alternatives, Inc.

Description: Joint Petition for Temporary and Limited Waivers of Capacity Release Regulations, et al. of MP Gulf of Mexico, LLC et al. under RP22-1224.

Filed Date: 9/19/22.

Accession Number: 20220919-5267.

Comment Date: 5 p.m. ET 9/26/22.

Docket Numbers: RP22-1225-000.

Applicants: Trunkline Gas Company, LLC.

Description: § 4(d) Rate Filing: Off-System Capacity Updates to be effective 10/20/2022.

Filed Date: 9/20/22.

Accession Number: 20220920-5109.

Comment Date: 5 p.m. ET 10/3/22.

Docket Numbers: RP22-1226-000.

Applicants: Flywheel Energy Production II, LLC, XTO Energy Inc.

Description: Joint Petition for Temporary Waivers of Capacity Release Regulations, et al. of Flywheel Energy Production II, LLC et al. under RP22-1226.

Filed Date: 9/20/22.

Accession Number: 20220920-5110.

Comment Date: 5 p.m. ET 9/27/22.

Docket Numbers: RP22-1227-000.

Applicants: Southern Natural Gas Company, L.L.C.

Description: § 4(d) Rate Filing: KaMin Negotiated Rate to be effective 10/1/2022.

Filed Date: 9/21/22.

Accession Number: 20220921-5011.

Comment Date: 5 p.m. ET 10/3/22.

Docket Numbers: RP22-1228-000.

Applicants: Midcontinent Express Pipeline LLC.

Description: § 4(d) Rate Filing: Removal of Expiring NextEra Agreement to be effective 11/1/2022.

Filed Date: 9/21/22.

Accession Number: 20220921-5014.

Comment Date: 5 p.m. ET 10/3/22.

Docket Numbers: RP22-1229-000.

Applicants: Honeoye Storage Corporation.

Description: Compliance filing: HSC 2022 Rate Compliance Filing to be effective N/A.

Filed Date: 9/21/22.

Accession Number: 20220921-5018.

Comment Date: 5 p.m. ET 10/3/22.

Docket Numbers: RP22-1230-000.

Applicants: Rockies Express Pipeline LLC.

Description: § 4(d) Rate Filing: REX 2022-09-21 Negotiated Rate Agreement Termination to be effective 9/16/2022.

Filed Date: 9/21/22.

Accession Number: 20220921-5028.

Comment Date: 5 p.m. ET 10/3/22.

Docket Numbers: RP22-1231-000.

Applicants: Tallgrass Interstate Gas Transmission, LLC.

Description: § 4(d) Rate Filing: TIGT 2022-09-21 Non-Conforming Agreement Amendment to be effective 9/21/2022.

Filed Date: 9/21/22.

Accession Number: 20220921-5032.

Comment Date: 5 p.m. ET 10/3/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2022.
Debbie-Anne A. Reese,
Deputy Secretary.

[FR Doc. 2022-20871 Filed 9-26-22; 8:45 am]

BILLING CODE 6717-01-P